DEPARTMENT OF THE TREASURY

United States Mint

Citizens Coinage Advisory Committee; Meetings

ACTION: Notification of CCAC bi-monthly meetings open to the public.

SUMMARY: Pursuant to Public Law 108-15, enacted on April 23, 2003, the United States Mint announces the Citizens Coinage Advisory Committee (CCAC) bi-monthly meetings. The meetings are open to the public. The purpose of the meetings is to advise the Secretary of the Treasury on designs pertaining to the coinage of the United States and for other purposes. The 2003 meeting schedule is monthly for the first three months and unless otherwise notified, standing meetings will be held bi-monthly on the third Wednesday at the United States Mint in Washington, DC.

It is our intent to hold the first public CCAC meeting on May 5, 2003. Please call 202-354-7502 on May 2, 2003 after 3 p.m. EST for updated information regarding the May 5, 2003 meeting.

The following is the meeting schedule for 2003:

Date and Time: May 5, 2003 9 a.m. to 11 a.m.

Location: United States Mint; 799 Ninth St. NW., Washington, DC; Conference room X and Y.

Subject: Consider 5-cent coin designs, state commemorative quarter-dollar coin designs, and other business.

The location for the meetings below is United States Mint, 801 Ninth St. NW., Washington, DC; Conference Room A.

June 18, 2003—9 a.m. to 11 a.m.

July 16, 2003—9 a.m. to 11 a.m.

September 17, 2003—9 a.m. to 11 a.m.

November 19, 2003—9 a.m. to 11 a.m.

All of the completion times above may be extended to accommodate additional business that must be conducted in sessions open to the public. Interested persons should call 202-354-7502 for the latest update on expected completion times.

Public Law 108-15 established the CCAC to:

• Advise the Secretary of the Treasury on any theme or design proposals relating to circulating coinage, bullion coinage, congressional gold medals, and national and other medals produced by the United States Mint.

• Advise the Secretary of the Treasury with regard to the events, persons, or places that the Committee recommends to be commemorated by the issuance of commemorative coins in each of the 5 calendar years succeeding the year in which a commemorative coin designation is made.

• Make recommendations with respect to the mintage level for any commemorative coin recommended.

FOR FURTHER INFORMATION CONTACT: Melody Grimm, United States Mint Liaison to the CCAC, 801 Ninth Street, NW., Washington, DC 20220, or call 202-354-7606.

Any member of the public interested in submitting matters for the CCAC's consideration is invited to submit them by fax to the following number: (202) 756-6424.

Authority: Public Law 108-15 (April 23, 2003).

Dated: April 28, 2003.
Henrietta Holsman Fore,
Director, United States Mint.

[FR Doc. 03-10844 Filed 4-30-03; 8:45 am]

BILLING CODE 4810-37-P